SOCIAL SECURITY ADMINISTRATION

20 CFR Part 416

[Docket No. SSA-2009-0017]

RIN 0960-AH00

Improvements to the Supplemental Security Income Program—Heroes Earnings Assistance and Relief Tax Act of 2008 (HEART Act)

AGENCY: Social Security Administration.

ACTION: Final Rule; correcting amendment.

SUMMARY: In the Federal Register of September 7, 2010, we published a final rule document revising our regulations to incorporate improvements to the Supplemental Security Income (SSI) program made by the HEART Act. We inadvertently stated the RIN incorrectly as 0960-AD78. This document corrects the RIN to 0960-AH00.

DATES: Effective on September 17, 2010.

FOR FURTHER INFORMATION CONTACT: Brian J. Rudick, Office of Regulations, Social Security Administration, 6401 Security Boulevard, Baltimore, MD 21235-6401, (410) 965-7102. For information on eligibility or filing for benefits, call our national toll-free number, 1-800-772-1213, or TTY 1-800-325-0778, or visit our Internet site, Social Security Online, at http://www.socialsecurity.gov.

SUPPLEMENTARY INFORMATION: We published a final rule document in the Federal Register of September 7, 2010, (75 FR 54285) revising our regulations to incorporate improvements to the SSI program made by the HEART Act. In this final rule, we incorrectly stated the RIN as 0960-AD78. This correction changes the RIN to 0960-AH00.

Martin Sussman,
Senior Advisor for Regulations.

[FR Doc. 2010-23183 Filed 9-16-10; 8:45 am]

BILLING CODE 4191-02-P